DEPARTMENT OF HEALTH AND HUMAN SERVICES

Centers for Medicare and Medicaid Services

[Document Identifier: CMS-R-96, CMS-R-5, CMS-R-245, CMS-R-209 and CMS-718 BP, 719 BP, 720 BP, 721 BP, SUM, Staffing, SC1, and SC2]

Agency Information Collection Activities: Submission for OMB Review; Comment Request

AGENCY: Centers for Medicare and Medicaid Services, HHS.

In compliance with the requirement of section 3506(c)(2)(A) of the Paperwork Reduction Act of 1995, the Centers for Medicare and Medicaid Services (CMS) (formerly known as the Health Care Financing Administration (HCFA), Department of Health and Human Services, is publishing the following summary of proposed collections for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

1. Type of Information Collection Request: Extension of a currently approved collection; Title of Information Collection: Emergency and Foreign Hospital Services—Beneficiary Statement in Canadian Travel Claims and Supporting Regulations in 42 CFR, section 424.123; Form No.: CMS-R-96 (OMB# 0938-0484); Use: Payment may be made for certain Part A inpatient hospital services and Part B outpatient hospital services provided in a non-participating U.S. or foreign hospital when services are necessary to prevent the death or serious impairment of the health of the individual. This statement must be submitted by the beneficiary to support their claim for payment.; Frequency: On occasion; Affected Public: Individuals or Households; Number of Respondents: 1,100; Total Annual Responses: 1,100; Total Annual Hours: 275.

2. Type of Information Collection Request: Extension of a currently approved collection; Title of Information Collection: Physician Certifications/Recertifications in Skilled Nursing Facilities (SNFs) Manual Instructions and Supporting Regulations in 42 CFR section 424.20; Form No.: CMS-R-5 (OMB# 0938-0454); Use: This information collection requires SNFs to keep record of physician certifications and recertifications of information such as the need for care and services, estimated duration of the SNF stay, and plan for home care; Frequency: On occasion; Affected Public: State, Local or Tribal Government, Individuals or Households, Business or other for-profit, Not-for-profit institutions; Number of Respondents: 2,068,716; Total Annual Responses: 883,838; Total Annual Hours: 441,793.

3. Type of Information Collection Request: Extension of a currently approved collection; Title of Information Collection: Medicare and Medicaid Programs Use of the OASIS as Part of the CoPs for HHAs and Supporting Regulations in part 484 of 42 CFR; Form No.: CMS-R-245 (OMB# 0938-0760); Use: This regulation requires HHAs to use a standard core assessment data set, the OASIS, to collect information and to evaluate adult non-maternity patients. In addition, data from the OASIS will be used for purposes of case mix adjusting patients under home health PPS and will facilitate the production of necessary case mix information at relevant time points in the patient's home health stay. Modifications have been made to currently approved OASIS forms to allow for the preservation of masking of personally identifiable information for the non-Medicare/non-Medicaid individuals; Frequency: Upon patient assessment; Affected Public: Business or other for-profit, Not-for-profit institutions, Federal Government, State, Local, or Tribal Government; Number of Respondents: 7,100; Total Annual Responses: 9,510,900; Total Annual Hours: 8,013,013.

4. Type of Information Collection Request: Extension of a currently approved collection; Title of Information Collection: Medicare and Medicaid Programs; Use and Reporting OASIS Data as Part of the CoPs for HHAs and Supporting Regulations in 42 CFR 484.11 and 484.20; Form No.: CMS-R-209 (OMB# 0938-0761); Use: HHAs are required to report data from the OASIS as a condition of participation. Specifically, the above named regulations sections provide guidelines for HHAs for the electronic transmission of the OASIS data as well as responsibilities of the State agency or OASIS contractor in collecting and transmitting this information to HCFA. These requirements are necessary to achieve broad-based, measurable improvement in the quality of care furnished through Federal programs, and to establish a prospective payment system for HHAs.; Frequency: Monthly; Affected Public: Business or other for-profit, Not-for-profit institutions, Federal Government, State, Local, or Tribal Government; Number of Respondents: 6,900; Total Annual Responses: 85,200; Total Annual Hours: 838,408.

5. Type of Information Collection Request: Revision of a currently approved collection; Title of Information Collection: Business Proposal Formats for Quality Improvement Organizations (QIOs)—previously known as Peer Review Organizations and Supporting Regulations in 42 CFR, Section 475.101—475.107; Form No.: CMS-718-721 (OMB# 0938-0579); Use: The submission of proposal information by current QIOs and other bidders, on the appropriate forms, will satisfy CMS's need for meaningful, consistent, and verifiable data with which to evaluate contract proposals; Frequency: tri-annually; Affected Public: Business or other for-profit, Not-for-profit institutions; Number of Respondents: 20; Total Annual Responses: 20; Total Annual Hours: 455.

To obtain copies of the supporting statement and any related forms for the proposed paperwork collections referenced above, access CMS Web site address at http://cms.hhs.gov/regulations/pra/default.asp, or E-mail your request, including your address, phone number, OMB number, and CMS document identifier, to Paperwork@hcfa.gov, or call the Reports Clearance Office on (410) 786-1326. Written comments and recommendations for the proposed information collections must be mailed within 30 days of this notice directly to the OMB desk officer: OMB Human Resources and Housing Branch, Attention: Brenda Aguilar, New Executive Office Building, Room 10235, Washington, DC 20503.

Dated: February 6, 2003.
John P. Burke, III,
Paperwork Reduction Act Team Leader, CMS Reports Clearance Officer, Office of Strategic Operations and Regulatory Affairs, Division of Regulations Development and Issuances.

[FR Doc. 03-3786 Filed 2-14-03; 8:45 am]

BILLING CODE 4120-03-P